DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 21, 2025 will be considered. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Rural Housing Service

Title: 7 CFR 1942-A, Community Facility Loans.

OMB Control Number: 0575-0015.

Summary of Collection: The Rural Housing Service (RHS) is a credit agency within the Rural Development mission area of the U.S. Department of Agriculture. The Community Programs Division of the RHS administers the Community Facilities program under 7 CFR part 1942, subpart A. Rural Development provides loan and grant funds through the Community Facilities program to finance many types of projects varying in size and complexity, from large general hospitals to small fire trucks. The facilities financed are designed to promote the development of rural communities by providing the infrastructure necessary to attract residents and rural jobs. RHS will collect information using multiple forms and in written format.

Need and Use of the Information: Information will be collected by Rural Development field offices from applicants/borrowers and consultants. The information is used to determine eligibility, project feasibility, and to ensure borrowers operate on a sound basis and use loan and grant funds for authorized purposes. Failure to collect proper information could result in improper determinations of eligibility, improper use of funds, and/or unsound loans.

Description of Respondents: Not-for-profit institutions; State, Local or Tribal Government.

Number of Respondents: 1,640.

Frequency of Responses: Recordkeeping; Reporting: On occasion; Annually.

Total Burden Hours: 67,749.

Rural Housing Service

Title: Single Family Housing Guaranteed Loan Program.

OMB Control Number: 0575-0179.

Summary of Collection: The Rural Housing Service, hereinafter referred to as the “Agency,” is a credit agency of the U.S. Department of Agriculture (USDA). The Agency offers supervised credit programs to build modest housing and essential community facilities in rural areas. Section 517(d) of Title V of the Housing Act of 1949, as amended, provides the authority for the Secretary of Agriculture to issue loan guarantees for the acquisition of new or existing dwellings and related facilities to provide decent, safe, and sanitary living conditions and other structures in rural areas.

The purpose of the Single-Family Housing Guaranteed Loan Program (SFHGLP) is to assist low and moderate-income individuals and families in acquiring or constructing a single-family residence in designated rural areas with loans originated and serviced by private lenders. Eligibility for this program includes very low, low, and moderate-income families or persons whose income does not exceed 115 percent of the median income for the area, as determined by the Secretary.

The SFHGLP was authorized under the Cranston-Gonzalez National Affordable Housing Act and the Agency issued a final rule implementing the SFHGLP on April 17, 1991, under 7 CFR part 1980-D. The program launched as a pilot in 20 States on May 17, 1991, and was offered nationwide in 1992. During the implementation process, the Agency explored methods of improving the program to structure it for use in the mortgage lending community.

Need and Use of the Information: Information is collected from both a potential homebuyer and lender. To participate in the program, lenders must submit to standards which ensure the loan objectives of the SFHGLP are met. The lender submits qualifications to the Agency and enters into an agreement that outlines both the lender and Agency's commitments and responsibilities under the guaranteed program. Information from a homebuyer includes financial documents such as confirmation of household income, assets and liabilities, a credit record, evidence the homebuyer has adequate repayment ability for the loan amount requested and if the condition and location of the property meet program guidelines. All information collected is vital for the Agency to determine if borrowers qualify for all assistance for which they are eligible.

Description of Respondents: Business or other for-profit; State, Local or Tribal Government.

Number of Respondents: 1,600.

Frequency of Responses: Reporting: Monthly; Quarterly; Annually.

Total Burden Hours: 471,052.

Levi S. Harrell,
Departmental Information Collection Clearance Officer.

[FR Doc. 2024-30463 Filed 12-19-24; 8:45 am]

BILLING CODE 3410-XV-P